DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

EFFECTIVE DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: Doug Bellomo, P.E., Hazard Identification Section, Emergency Preparedness and Response Directorate, FEMA, 500 C Street SW., Washington, DC 20472, (202) 646-2903.

SUPPLEMENTARY INFORMATION: FEMA makes the final determinations listed below for the modified BFEs for each community listed. These modified elevations have been published in newspapers of local circulation and ninety (90) days have elapsed since that publication. The Mitigation Division Director of the Emergency Preparedness and Response Directorate, has resolved any appeals resulting from this notification.

This final rule is issued in accordance with Section 110 of the Flood Disaster Protection Act of 1973, 42 U.S.C. 4104, and 44 CFR Part 67.

The Agency has developed criteria for floodplain management in floodprone areas in accordance with 44 CFR Part 60.

Interested lessees and owners of real property are encouraged to review the proof Flood Insurance Study and FIRM available at the address cited below for each community.

The BFEs and modified BFEs are made final in the communities listed below. Elevations at selected locations in each community are shown.

National Environmental Policy Act

This rule is categorically excluded from the requirements of 44 CFR Part 10, Environmental Consideration. No environmental impact assessment has been prepared.

Regulatory Flexibility Act

The Mitigation Division Director of the Emergency Preparedness and Response Directorate certifies that this rule is exempt from the requirements of the Regulatory Flexibility Act because final or modified BFEs are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated Oct. 26, 1987.

Executive Order 12778, Civil Justice Reform

This rule meets the applicable standards of Section 2(b)(2) of Executive Order 12778.

List of Subjects in 44 CFR Part 67

Administrative practice and procedure, Flood insurance, Reporting and recordkeeping requirements.

Accordingly, 44 CFR Part 67 is amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | #Depth in feet above ground. *Elevation in feet (NGVD) •Elevation in feet (NAVD)
VIRGINIA
Stafford County (FEMA Docket No. D-7586)
Accokeek Creek:
Approximately 0.66 mile downstream of State Route 609 | •12
Approximately 350 feet upstream of State Route 628 | •189
Aquia Creek:
Approximately 0.79 mile downstream of Aquia Drive | •8
Approximately 930 feet upstream of Tacketts Mill Road | •281
Austin Run:
Approximately 0.63 mile upstream of the confluence with Aquia Creek | •7
Approximately 285 feet upstream of Winding Creek Road (State Route 628) | •258
Claiborne Run:
At the upstream side of Kings Highway (State Route 3) | •41
Approximately 0.56 mile upstream of U.S. Route 1 | •168
England Run:
Approximately 185 feet upstream of the confluence with Rappahannock River | •59
Approximately 1.0 mile upstream of State Route 670 | •225
Falls Run:
Approximately 1,000 feet upstream of U.S. Route 17 | •40
Approximately 1.06 miles upstream of Cardinal Forest Drive | •345
Little Falls Run:
Approximately 1,280 feet upstream of Kings Highway | •32
Approximately 0.52 mile upstream of State Route 218 | •142
Rocky Run:
At the confluence with Tributary 3 to Austin Run | •54
Approximately 225 feet upstream of Rockdale Road (State Route 617) | •148
Tributary 3 to Austin Run:
At the confluence with Austin Run | •32
Approximately 800 feet upstream of the confluence of Austin Run Tributary 2 | •54
Whitsons Run (previously known as Tributary 1 to Austin Run):
At the confluence with Austin Run | •56
Approximately 0.65 mile upstream of Eustace Road (State Route 751) | •253
Maps available for inspection at the Stafford County Administration Center, Department of Code Administration, 1300 Courthouse Road, Stafford, Virginia.

(Catalog of Federal Domestic Assistance No. 83.100, “Flood Insurance”)

Dated: August 9, 2004.
David I. Maurstad,
Acting Director, Mitigation Division, Emergency Preparedness and Response Directorate.

[FR Doc. 04-18689 Filed 8-13-04; 8:45 am]

BILLING CODE 9110-12-P